DEPARTMENT OF EDUCATION

34 CFR Part 668

RIN 1840-AD14

[Docket ID ED-2015-OPE-0020]

Program Integrity and Improvement; Corrections

AGENCY: Office of Postsecondary Education, Department of Education.

ACTION: Final rule; corrections.

SUMMARY: The Department of Education published final regulations for Program Integrity and Improvement in the Federal Register on October 30, 2015 (80 FR 67125). This document corrects errors in the final regulations.

DATES: Effective July 1, 2016.

FOR FURTHER INFORMATION CONTACT: Ashley Higgins, U.S. Department of Education, 400 Maryland Avenue SW., Room 6W234, Washington, DC 20202. Telephone: (202) 453-6097.

If you use a telecommunications device for the deaf or a text telephone, call the Federal Relay Service, toll free, at 1-800-877-8339.

SUPPLEMENTARY INFORMATION: In the Federal Register of October 30, 2015 (80 FR 67125):

(a) In § 668.164(e)(2), we inadvertently limited the permissible use of any personally identifiable information about a student to activities that support making payments of title IV funds, when institutions must make other types of payments to students. Accordingly, on page 67197, in the middle column, we correct § 668.164(e)(2)(ii)(B) of the regulations by replacing the phrase “of title IV, HEA program funds” with the phrase “to the student”.

(b) Under the final regulations, institutions with Tier one arrangements must make public both the full contract and selected contract data. In the regulatory text, we inadvertently omitted reference to the contract data in § 668.164(e)(2)(viii). Accordingly, on page 67197, in the right-hand column, we correct § 668.164(e)(2)(viii) of the regulations by adding the words “and contract data as described in paragraph (e)(2)(vii) of this section” after the word “contract”.

(c) In § 668.164(e)(3) of the regulations, we inadvertently limited the information an institution may share to enrollment information relating to title IV recipients, when institutions are permitted to share under the final regulations such information for all students. Accordingly, on page 67198, in the left-hand column, we correct § 668.164(e)(3) by replacing “title IV recipients' ” with “students' ”.

(d) In § 668.164(f)(4)(i)(A) of the regulations we incorrectly omitted a word. Accordingly, on page 67198, in the middle column, we correct § 668.164(f)(4)(i)(A) by adding “information” after “identifiable”.

(e) In § 668.164(f)(4)(vi) of the regulations, we inadvertently included a redundant phrase. Accordingly, on page 67198, in the right-hand column, we correct § 668.164(f)(4)(vi) by replacing the phrase “If the institution is located in a State, ensure” with the word “Ensure”.

(f) In § 668.164(f)(4)(xii) of the regulations, we inadvertently implied that § 668.164(d)(4)(i) was a voluntary requirement for institutions with a Tier two arrangement that falls below the threshold number of students. Accordingly, on page 67199, in the left-hand column, we correct § 668.164(f)(4)(xii) by adding the word “applicable” before the word “provisions” and removing the reference to “(d)(4)(i), (f)(4), and (f)(5)” and adding in its place “(f)(4) and (5)”.

(g) In § 668.164(f)(5) of the regulations, we inadvertently limited the information an institution may share to enrollment information relating to title IV recipients, when institutions are permitted to share under the final regulations such information for all students. Accordingly, on page 67199, in the left-hand column, we correct § 668.164(f)(5) by replacing the phrase “title IV recipients' ” with the word “students' ”.

(h) In § 668.165(a)(2), we inadvertently omitted the new definition set out in § 668.161. Accordingly, on page 67200, in the middle column, we correct § 668.165(a)(2) by removing the phrase “student's account at the institution” and replacing it with the phrase “student ledger account”.

(i) In § 668.166(a)(2), we inadvertently omitted the new definition set out in § 668.161. Accordingly, on page 67201, in the right-hand column, we correct § 668.166(a)(2) by removing the phrase “Federal account” and replacing it with the phrase “depository account”.

Waiver of Proposed Rulemaking

In accordance with the Administrative Procedure Act, 5 U.S.C. 553, it is the Secretary's practice to offer interested parties the opportunity to comment on proposed regulations. However, the regulatory changes in this document are necessary to correct errors and do not establish any new substantive rules. Therefore, the Secretary has determined that publication of a proposed rule is unnecessary under 5 U.S.C. 553(b)(B).

Accessible Format: Individuals with disabilities can obtain this document in an accessible format (e.g., Braille, large print, audiotape, or compact disc) on request to the contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

In the Federal Register of October 30, 2015, in FR Doc. 2015-27145 (80 FR 67125), the following corrections are made:

§ 668.164 [Corrected]

1. On page 67197, in the middle column, correct § 668.164(e)(2)(ii)(B) by removing the phrase “of title IV, HEA program funds” and adding in its place the phrase “to the student”.

2. On page 67197, in the right-hand column, correct § 668.164(e)(2)(viii) by adding the words “and contract data as described in paragraph (e)(2)(vii) of this section” after the word “contract”.

3. On page 67198, in the left-hand column, correct § 668.164(e)(3) by removing “title IV recipients' ” and add in its place “students' ”.

4. On page 67198, in the middle column, correct § 668.164(f)(4)(i)(A) by adding “information” after “identifiable”.

5. On page 67198, in the right-hand column, correct § 668.164(f)(4)(vi) by removing the phrase “If the institution is located in a State, ensure” and adding in its place the word “Ensure”.

6. On page 67199, in the left-hand column, correct § 668.164(f)(4)(xii) by adding the word “applicable” before the word “provisions” and removing the reference to “(d)(4)(i), (f)(4), and (f)(5)” and adding in its place “(f)(4) and (5)”.

7. On page 67199, in the left-hand column, correct § 668.164(f)(5) by removing the phrase “title IV recipients' ” and adding in its place the word “students' ”.

§ 668.165 [Corrected]

8. On page 67200, in the middle column, correct § 668.165(a)(2) introductory text by removing the phrase “student's account at the institution” and adding in its place the phrase “student ledger account”.

§ 668.166 [Corrected]

9. On page 67201, in the right-hand column, correct § 668.166(a)(2) by removing the phrase “Federal account” and adding in its place the phrase “depository account”.

Dated: April 4, 2016.
John B. King, Jr.,
Secretary of Education.

[FR Doc. 2016-08053 Filed 4-6-16; 8:45 am]

BILLING CODE 4000-01-P